DEPARTMENT OF ENERGY

Federal Energy Regulatory Commission

[Docket Nos. CP01-176-005 and CP01-179-003]

Georgia Strait Crossing Pipeline LP; Notice Rejecting Request for Rehearing

January 2, 2004.

In September 2002 the Commission granted Georgia Strait Crossing Pipeline LP (Georgia Strait) authorization to construct a 47-mile pipeline across the northwest tip of Washington to carry gas to Vancouver Island.¹ One year later, Fuel Safe Washington (Fuel Safe) filed a request to reopen the record to supplement the EIA. Fuel Safe also sought judicial review of the Commission's decision.

¹ 100 FERC ¶ 61,280 (2002), order denying reh'g and granting clarification, 102 FERC ¶ 61,051 (2003).

The Commission issued an Order on November 13, 2003, which stated:

Judicial review of our decision in this case is pending before The Circuit Court of Appeals for the Tenth Circuit in Fuel Safe Washington v. FERC, Case No. 03-9577. Because that Court now has exclusive jurisdiction over this proceeding, we no longer have authority to reopen the record, unless directed by the Court. Consequently, Fuel Safe's request is dismissed.²

² 105 FERC ¶ 61,190, paragraph 5 (2003).

On December 16, 2003, Fuel Safe sought rehearing of the Commission's November 13 Order dismissing its request to reopen the record.

Pursuant to Section 19(a) of the Natural Gas Act,³ requests for rehearing of the Commission's Order were due within thirty days after issuance of the Order i.e., no later than December 15, 2003. Because the 30-day rehearing deadline is statutorily based, it cannot be extended, and Fuel Safe's request for rehearing is rejected.

³ 3 15 U.S.C. 717r.

This notice constitutes final agency action. Request for rehearing by the Commission of this rejection notice must be filed within 30 days of the date of issuance of this notice, pursuant to 18 CFR 385.713 (2003).

Linda Mitry,
Acting Secretary.

[FR Doc. E4-30 Filed 1-9-04; 8:45 am]

BILLING CODE 6717-01-P